DEPARTMENT OF AGRICULTURE

Food and Nutrition Service

7 CFR Parts 272 and 273

RIN 0584-AC39

Food Stamp Program: Personal Responsibility Provisions of the Personal Responsibility and Work Opportunity Reconciliation Act of 1996; Delay of Effective Date

AGENCY: Food and Nutrition Service, USDA.

ACTION: Final rule; delay of effective date.

SUMMARY: The final rule, “The Personal Responsibility Provisions of the Personal Responsibility and Work Opportunity Reconciliation Act of 1996,” was published on January 17, 2001 at FR 66 4438. The rule finalizes the proposed rule of the same name which was published December 17, 1999. It implements 13 provisions of the Personal Responsibility and Work Opportunity Reconciliation Act of 1996. The original effective date of the rule (with the exception of one amendment) was April 2, 2001. In accordance with the memorandum of January 20, 2001, from the Assistant to the President and Chief of Staff, entitled “Regulatory Review Plan,” published in the Federal Register on January 24, 2001, the effective date of the rule was delayed for 60 days to June 1, 2001, via an action published in the Federal Register on February 5, 2001 at 66 FR 8886. The Under Secretary of the Food, Nutrition, and Consumer Services and has just recently been confirmed and has not yet been sworn-in. In order to give the new Under Secretary time to review the rule, this action delays the effective date of the final rule (with the exception of one amendment) an additional 60 days to July 31, 2001.

In addition, the State agencies were required to implement the final rule no later than August 1, 2001. Because the rule will not be effective now until July 31, 2001, this action establishes a new implementation date of October 1, 2001.

DATES: The effective date of the Personal Responsibility Provisions of the Personal Responsibility and Work Opportunity Reconciliation Act of 1996, published in the Federal Register, on January 17, 2001, at 66 FR 4438, is delayed for an additional 60 days, from June 1, 2001 to a new effective date of July 31, 2001, except for the amendment to 7 CFR 272.2(d)(1)(xiii) which retains the effective date of August 1, 2001. The implementation date of the final rule is delayed for 60 days from August 1, 2001, to a new implementation date of October 1, 2001.

FOR FURTHER INFORMATION CONTACT: Patrick Waldron, Chief, Certification Policy Branch, Program Development Division, Food and Nutrition Service, USDA, 3101 Park Center Drive, Alexandria, Virginia, 22302, (703) 305-2495.

SUPPLEMENTARY INFORMATION: To the extent that 5 U.S.C. section 553 applies to this section, it is exempt from notice and comment because it constitutes a rule of procedure under 5 U.S.C. section 553(b)(A). Alternatively, the Department's implementation of this rule without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule effective immediately upon publication.

Dated: May 29, 2001.
George A. Braley,
Acting Administrator, Food and Nutrition Service.

[FR Doc. 01-13854 Filed 5-31-01; 8:45 am]

BILLING CODE 3410-30-U